DEPARTMENT OF ENERGY

Federal Energy Regulatory Commission

[Docket Nos. CP05-357-006; CP07-426-000]

Cheniere Creole Trail Pipeline, L.P.; Cheniere Sabine Pass Pipeline, L.P.; Notice of Application for Amendment to Certificate of Public Convenience and Necessity and Application for Abandonment

August 2, 2007.

Take notice that on July 31, 2007, Cheniere Creole Trail Pipeline, L.P., 700 Milam Street, Suite 800, Houston, Texas 77002 (Cheniere Creole Trail) and Cheniere Sabine Pass Pipeline, L.P., 700 Milam Street, Suite 800, Houston, Texas 77002 (Cheniere Sabine Pass), filed with the Federal Energy Regulatory Commission (Commission) in the above-referenced dockets an abbreviated application under section 7 of the Natural Gas Act, all as more fully set forth in the application which is on file with the Commission and open to public inspection. The filing may also be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The applicants seek an order from the Commission: (i) Authorizing Cheniere Sabine Pass to abandon by merger with Cheniere Creole Trail its Certificate of Public Convenience and Necessity issued in Docket Nos. CP04-38-000 and CP04-38-001 for a 16-mile-long, 42-inch-diameter pipeline with appurtenances (Sabine Pass Segment) located in Cameron Parish, Louisiana (currently under construction); (ii) authorizing Cheniere Sabine Pass to abandon its blanket transportation certificate issued in Docket No. CP04-39-000 under Subpart G of Part 284 of the Commission's regulations and its blanket construction certificate issued in Docket No. CP04-40-000 under Subpart F of Part 157 of the Commission's regulations; (iii) authorizing Cheniere Creole Trail to amend its Certificate of Public Convenience and Necessity to include the Sabine Pass Segment such that it will function as an integrated pipeline system with a capacity of 2.0 Bcf per day (Cheniere Creole Trail's pipeline is also currently under construction); (iv) authorizing Cheniere Creole Trail's proposed revised Zone 1 transportation rates based on a revised estimated capital cost of $ 571.6 million; and (v) authorizing certain proposed revisions to Cheniere Creole Trail's Pro Forma FERC Gas Tariff in these subjects, Fuel Retainage, Receipt Pressure, Interruptible and Short-Term Firm Services Revenue Crediting, Imbalances, Park & Loan.

Any questions regarding the application should be directed to Patricia Outtrim, Cheniere Creole Trail Pipeline, L.P., 700 Milam Street, Suite 800, Houston, Texas 77002, (713) 659-1361, or Lisa Tonery, King & Spalding LLP, 1185 Avenue of the Americas, New York, NY 10036, (212) 556-2307.

Pursuant to section 157.9 of the Commission's rules, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date shown below. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

Comment Date: 5 p.m. Eastern Time on August 22, 2007.

Kimberly D. Bose,
Secretary.

[FR Doc. E7-15522 Filed 8-8-07; 8:45 am]

BILLING CODE 6717-01-P